DEPARTMENT OF THE INTERIOR

National Park Service

[N6566; NPS-WASO-NAGPRA-NPS0041190; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects and that have a cultural affiliation with the Indian Tribes or Native Hawaiian organizations in this notice.

DATES: Repatriation of the cultural items in this notice may occur on or after December 17, 2025.

ADDRESSES: Send additional, written requests for repatriation of the cultural items in this notice to Elise-Alexandria Green, Sonoma State University, 1801 East Cotati Avenue, Rohnert Park, CA 94928, email greeneli@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 207 cultural items have been requested for repatriation.

A total of three unassociated funerary objects were taken from CA-SON-350. This site is located just north of Duncans Point in Sonoma County, California. These cultural items were collected during an archaeological survey. The cultural items are obsidian tools. The cultural items have been housed at Sonoma State University since 1978 under Accession Number 78-03.

A total of two unassociated funerary objects were taken from CA-SON-1186 during a cultural resource survey. This site is located just north of the Russian River in Forestville, California. The cultural items are modified obsidian and a chert flake. The cultural items have been housed at Sonoma State University since 1979 under Accession Number 79-03.

A total of nine unassociated funerary objects were taken from CA-SON-1328 during a property survey. This site is located west of the Atascadero Creek in Forestville, California.The cultural items are modified obsidian and obsidian flakes. The cultural items have been housed at Sonoma State University since 1981 under Accession Number 81-01.

A total of 81 unassociated funerary objects were taken from CA-SON-1512H, CA-SON-1513, and CA-SON-1514. These sites are located just south of Jenner, California in Sonoma County, near the Russian River. The cultural items were taken during a cultural resource survey performed by the Anthropological Studies Center for the Department of Parks and Recreation. The cultural items include groundstone tools, chert flakes, historic material, obsidian flakes, quartzite, and obsidian projectile points. The cultural items have been housed at Sonoma State University since 1989 under Accession Number 89-02.

A total of 112 unassociated funerary objects were taken from CA-SON-1534. This site is located near Forestville, California in Sonoma County. The cultural items were taken during an investigation of the area due to the Sonoma County Department of Public Works planning to build a wastewater storage reservoir in an area that encompasses the site. Obsidian hydration dating suggests that the site was occupied from 3000 years ago to 150 years ago as of 1989 . The cultural items include modified obsidian, modified chert, debitage, groundstone tools, clay, faunal bone, and historic material. The cultural items have been housed at Sonoma State University since 1986 under Accession Number 86-01.

Based on records concerning the sacred objects, objects of cultural patrimony, and the institution in which they are housed, there is no evidence of the cultural items being treated with hazardous substances.

Determinations

The Sonoma State University has determined that:

• The 207 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 17, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-19962 Filed 11-14-25; 8:45 am]

BILLING CODE 4312-52-P